DEPARTMENT OF JUSTICE

Notice of Lodging of Proposed Consent Decree Under the Clean Water Act

On October 26, 2015, the Department of Justice lodged a proposed consent decree with the United States District Court for the District of Puerto Rico in the lawsuit entitled United States v. The Municipality of San Juan, the Puerto Rico Department of Natural and Environmental Resources, the Puerto Rico Department of Transportation and Public Works, the Puerto Rico Highway and Transportation Authority, and the Commonwealth of Puerto Rico, Civil Action No. 3:14-cv-1476-CCC.

The proposed consent decree resolves the United States' claims against the Municipality of San Juan (“San Juan”) under the Clean Water Act (CWA), 33 U.S.C. §§ 1251-1387, concerning CWA violations throughout San Juan's municipal separate storm sewer system (“MS4”). The proposed consent decree provides for injunctive relief to be implemented in a two-stage, multi-phased study and repair of San Juan's entire MS4. The proposed consent decree resolves only the violations alleged against San Juan in the Complaint through the date of lodging of the Consent Decree and does not resolve claims against the other Defendants.

The publication of this notice opens a period for public comment on the proposed consent decree. Comments should be addressed to the Assistant Attorney General, Environment and Natural Resources Division and should refer to United States v. The Municipality of San Juan, D.J. Ref. No. 90-5-1-1-09551. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $10.25 (25 cents per page reproduction cost) for a copy of the proposed consent decree (copies of the appendices attached to the consent decree are not included in this amount) payable to the United States Treasury.

Robert E. Maher Jr.,
Assistant Section Chief, Environmental Enforcement Section, Environment and Natural Resources Division.

Appendix 1

BILLING CODE 4410-15-P

[FR Doc. 2015-27597 Filed 10-28-15; 8:45 am]

BILLING CODE 4410-15-C